DEPARTMENT OF COMMERCE

International Trade Administration

[C-570-128]

Mattresses From the People's Republic of China: Postponement of Preliminary Determination in the Countervailing Duty Investigation

AGENCY: Enforcement and Compliance, International Trade Administration, Department of Commerce.

DATES: Applicable June 10, 2020.

FOR FURTHER INFORMATION CONTACT: Theodore Pearson, AD/CVD Operations, Office I, Enforcement and Compliance, International Trade Administration, U.S. Department of Commerce, 1401 Constitution Avenue NW, Washington, DC 20230; telephone: (202) 482-2631.

SUPPLEMENTARY INFORMATION:

Background

On April 20, 2020, the Department of Commerce (Commerce) initiated a countervailing duty (CVD) investigation of imports of mattresses from the People's Republic of China.¹ Currently, the preliminary determination is due no later than June 24, 2020.

¹ See Mattresses from the People's Republic of China: Initiation of Countervailing Duty Investigation, 85 FR 22998 (April 24, 2020).

Postponement of Preliminary Determination

Section 703(b)(1) of the Tariff Act of 1930, as amended (the Act), requires Commerce to issue the preliminary determination in a CVD investigation within 65 days after the date on which Commerce initiated the investigation. However, section 703(c)(1) of the Act permits Commerce to postpone the preliminary determination until no later than 130 days after the date on which Commerce initiated the investigation if: (A) The petitioner makes a timely request for a postponement; or (B) Commerce concludes that the parties concerned are cooperating, that the investigation is extraordinarily complicated, and that additional time is necessary to make a preliminary determination. Under 19 CFR 351.205(e), the “petitioner must submit a request for postponement 25 days or more before the scheduled date of the preliminary determination and must state the reasons for the request.” Commerce will grant the request unless it finds compelling reasons to deny the request.²

² See 19 CFR 351.205(e).

On May 21, 2020, the petitioners ³ submitted a timely request that Commerce postpone the preliminary CVD determination.⁴ The petitioners request postponement because the petitioners “will not have an opportunity to submit rebuttal factual information and {Commerce} will not have adequate time to review the data provided in the questionnaire responses and issue supplemental questionnaires prior to its issuance of a preliminary determination.” ⁵ In accordance with 19 CFR 351.205(e), the petitioners have stated the reasons for requesting a postponement of the preliminary determination, and Commerce finds no compelling reason to deny the request. Therefore, in accordance with section 703(c)(1)(A) of the Act, Commerce is postponing the deadline for the preliminary determination to no later than 130 days after the date on which this investigation was initiated, i.e., August 28, 2020. Pursuant to section 705(a)(1) of the Act and 19 CFR 351.210(b)(1), the deadline for the final determination of this investigation will continue to be 75 days after the date of the preliminary determination.

³ Brooklyn Bedding, Corsicana Mattress Company, Elite Comfort Solutions, FXI, Inc., Innocor, Inc., Kolcraft Enterprises, Inc., Leggett & Platt, Incorporated, the International Brotherhood of Teamsters, and United Steel, Paper and Forestry, Rubber, Manufacturing, Energy, Allied Industrial and Service Workers International Union, AFL-CIO (USW) (collectively, the petitioners).

⁴ See Petitioners' Letter, “Mattresses from China: Request to Extend CVD Preliminary Determination,” dated May 21, 2020.

⁵ Id.

Notification to Interested Parties

This notice is issued and published pursuant to section 703(c)(2) of the Act and 19 CFR 351.205(f)(1).

Dated: June 4, 2020.
Jeffrey I. Kessler,
Assistant Secretary for Enforcement and Compliance.

[FR Doc. 2020-12562 Filed 6-9-20; 8:45 am]

BILLING CODE 3510-DS-P